DEPARTMENT OF THE INTERIOR

Fish and Wildlife Service

[FWS-R7-2010-N191; 70133-1265-0000-S3]

Draft Comprehensive Conservation Plan and Environmental Assessment, Selawik National Wildlife Refuge, Kotzebue, AK

AGENCY: U.S. Fish and Wildlife Service, Interior.

ACTION: Notice of availability; request for comments.

SUMMARY: We, the U.S. Fish and Wildlife Service (Service), announce the availability of a draft comprehensive conservation plan (CCP) and environmental assessment (EA) for the Selawik National Wildlife Refuge (Refuge) for public review and comment. In this document, we describe alternatives, including our preferred alternative, to manage the Refuge for the 15 years following approval of the final CCP.

DATES: To ensure consideration, please send your written comments by January 15, 2011. We will announce upcoming public meetings and other opportunities for public input in local news media.

ADDRESSES: You may submit comments or requests for copies of the draft CCP and the EA or more information by any of the following methods. You may request hard copies or a CD-ROM of the document.

Agency Web Site: Download a copy of the document at http://alaska.fws.gov/nwr/planning/plans.htm.

E-mail: selawik_planning@fws.gov; please include “Selawik National Wildlife Refuge draft CCP and EA” in the subject line of the message.

Fax: Attn: Jeffrey Brooks, (907) 786-3965, or Lee Anne Ayres, (907) 442-3124.

U.S. Mail: Jeffrey Brooks, U.S. Fish and Wildlife Service Regional Office, 1011 E. Tudor Road Mailstop 231, Anchorage, AK 99503.

In-Person Viewing or Pickup: Call (907) 786-3357 to make an appointment during regular business hours at the above address; or call (907) 442-3799 to make an appointment during regular business hours at the Selawik Refuge Headquarters in Kotzebue, AK.

FOR FURTHER INFORMATION CONTACT: Jeffrey Brooks, Planning Team Leader, at the above address, by phone at (907) 786-3839, or by e-mail at selawik_planning@fws.gov.

SUPPLEMENTARY INFORMATION:

Introduction

With this notice, we continue the CCP process for the Selawik National Wildlife Refuge. We started this process through a notice of intent in the Federal Register (73 FR 57143; October 1, 2008).

The Selawik National Wildlife Refuge was established by the Alaska National Interest Lands Conservation Act (ANILCA) in 1980. Selawik Refuge straddles the Arctic Circle in northwestern Alaska, encompassing an area approximately the size of Connecticut. Refuge boundaries encompass approximately 3.2 million acres of which approximately 2.5 million acres are administered by the U.S. Fish and Wildlife Service. Section 302(7)(B) of ANILCA states the purposes for which the Selawik Refuge was established: (1) To conserve fish and wildlife populations and habitats in their natural diversity; (2) to fulfill international treaty obligations of the United States with respect to fish and wildlife and their habitats; (3) to provide the opportunity for continued subsistence use by local residents; and (4) to ensure water quality and necessary water quantity within the Refuge.

The Selawik River, an important feature, meanders through the heart of the Refuge, creating a rich succession of habitats, including vast wetlands. The names of both the river and the Refuge originated from the Inupiaq word “siilivik,” which means “place of sheefish.” The sheefish, or inconnu, is a member of the whitefish family and provides an important, and highly desired, food resource for Native subsistence harvesters in this region of Alaska.

Extensive tundra wetlands containing grass and sedge meadows dominate the Refuge landscape, while boreal spruce forests, alder, and willow thickets trace stream and river drainages. Multitudes of migratory waterfowl and shorebirds breed on 24,000 lakes and ponds within the Refuge. Neo-tropical songbirds nest in forests and willow thickets. Moose, wolves, lynx, bears, muskoxen, Arctic and red fox, beavers, and muskrats are year-round residents. The Western Arctic Caribou Herd migrates across Selawik Refuge. In mild winters, small bands of caribou remain on the Refuge to forage in the lichen-covered foothills. Many rivers, sloughs, and lakes support both freshwater and anadromous fisheries, and provide spawning grounds for northern pike, Arctic grayling, and various types of whitefish.

Access to the Refuge is possible only by boat, float- or ski-equipped airplane, snowmobile, or dogsled team. Snowmobile trails provide vital links among the Alaska Native villages of the region in winter and are usually passable to travelers through the end of April. Several of these villages are located within or near the Refuge boundary, including Buckland, Noorvik, Selawik, Kiana, Ambler, Kobuk, and Shungnak.

Background

The CCP Process

The National Wildlife Refuge System Administration Act of 1966 (16 U.S.C. 668dd-668ee) (Administration Act), as amended by the National Wildlife Refuge System Improvement Act of 1997, and the Alaska National Interest Lands Conservation Act of 1980 (94 Stat. 2371; ANILCA) require us to develop a CCP for each refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Administration Act and ANILCA.

Public Outreach

We started the CCP for Selawik Refuge in September 2008. At that time and throughout the planning process, we requested public comments and considered and incorporated them in numerous ways. We mailed a planning newsletter to approximately 3,200 individuals, agencies, and organizations. This newsletter announced that we were revising the CCP and seeking input from the public. The newsletter informed the public about issues that were identified by the planning team and Refuge staff. The newsletter contained a work sheet that provided an opportunity for people to identify issues that they thought should be addressed in the CCP. This newsletter and work sheet were also made available through the Internet. Over 70 written comments were received.

To gather additional input from the public, members of the planning team held an open house meeting in Kotzebue, which was attended by 18 community members. Visits were made to Buckland, Kiana, Noorvik, Selawik, and Shungnak where members of the planning team attended city and tribal council meetings to inform residents of the planning process and to hear them speak about the issues. Nearly 50 village elders and community leaders were interviewed during these visits.

The planning team categorized the comments into four interrelated topics that were of value to the public: (1) Subsistence; (2) aesthetics, natural habitat, and wildness; (3) fish and wildlife; and (4) research and education. Based on this public outreach and the discussions of the planning team, we have formulated eight major planning issues which are addressed in the draft CCP and the EA: (1) Protection of fish, wildlife, habitats, and subsistence; (2) management of access to refuge lands for community residents and the visiting public; (3) maintaining hunting opportunities; (4) addressing local public use needs; (5) maintaining water quality and quantity; (6) maintaining the wild character of the Refuge and quality visitor experiences; (7) proactively addressing the uncertainties of climate change; and (8) providing more outreach and better communication for the public.

We have considered and evaluated all of these issues and public concerns, with many incorporated into the various management alternatives, goals, and objectives addressed or described in the draft CCP and the EA.

CCP Alternatives We Are Considering

The document describes and evaluates three alternatives for managing the Refuge for the 15 years following approval of the final CCP. These alternatives follow much of the same general management direction. Alternative A (the No-Action Alternative) is required under NEPA and describes continuation of current management activities. Alternative A serves as a baseline against which to compare the other alternatives. Under Alternative A, management of the Refuge would continue to follow direction described in the 1987 CCP and record of decision as modified by subsequent program-specific plans (e.g., fisheries, cultural resources, and fire management plans). Alternative A would continue to protect and maintain the existing wildlife values, natural diversity, and ecological integrity of the Refuge. Human disturbances to fish and wildlife habitats and populations would be minimal. Private and commercial uses of the Refuge would not change, and public uses employing existing access methods would continue to be allowed. Opportunities would be maintained to pursue traditional subsistence activities and recreational hunting, fishing, and other wildlife dependent activities. Opportunities would be maintained to pursue research activities.

Alternative B (the Preferred Alternative) would generally continue to follow management direction described in the 1987 CCP and record of decision as modified by subsequent program-specific plans, but some of that management direction has been updated by changes in policy since the 1987 Selawik CCP was approved. Alternative B identifies these specific changes in management direction as well as new goals and objectives for Refuge management that would be adopted regardless of which alternative is selected. Alternative B proposes limiting access to some public lands, which are intermingled with private lands, for commercial guides and transporters whose clients are big game hunting. Alternative B proposes that a formal partnership be created between the Refuge and local entities to jointly maintain a shared facility of one or more buildings with capacity for office, meeting, and storage space in a community within the refuge. Alternative B proposes a study of traditional access methods for subsistence purposes. Alternative B proposes that local public use and access needs be addressed by creating formal partnerships between the Refuge and various local entities.

Alternative C would generally continue to follow management direction described in Alternative A as modified by subsequent program-specific plans. Alternative C would also identify any specific changes or updates in management direction as well as adopt the new goals and objectives for Refuge management. Alternative C proposes that the Refuge manager could open or close some public lands, which are intermingled with private lands, to use by commercial guides and transporters whose clients are big game hunting. Alternative C proposes that the Refuge independently maintain a facility of one or more buildings with capacity for office, meeting, and storage space in a community within the refuge. Alternative C proposes the same study of traditional access methods for subsistence purposes. Alternative C would address local public use and access needs slightly different from Alternative B by proposing to expand or improve some opportunities for public use and access on Refuge lands.

Public Meetings

We will involve the public through open houses, meetings, written comments, and personal interviews with community members. We will mail documents to our national and local Refuge mailing lists. Public meetings will be held in communities in the Refuge area, including Kotzebue, Noorvik, and Selawik. Dates, times, and locations of each meeting or open house will be announced in advance in local media.

Submitting Comments/Issues for Comment

We particularly seek comments on the following issues:

• Management of use by commercial guides and transporters to maintain big game hunting opportunities while reducing social conflict in the region;

• How to best conduct a traditional access study of use for subsistence purposes on Refuge lands;

• Proactively addressing climate change; and

• Providing more outreach and better communication for the public.

We consider comments substantive if they:

• Question, with reasonable basis, the accuracy of the information in the document;

• Question, with reasonable basis, the adequacy of the environmental assessment;

• Present reasonable alternatives other than those presented in the draft CCP and the EA; and/or

• Provide new or additional information relevant to the assessment.

Next Steps

After this comment period ends, we will analyze the comments and address them in the form of a final CCP and decision document.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: October 12, 2010.
Gary Edwards,
Acting Regional Director, U.S. Fish and Wildlife Service, Anchorage, Alaska.

[FR Doc. 2010-26655 Filed 10-20-10; 8:45 am]

BILLING CODE 4310-55-P